DEPARTMENT OF ENERGY

Federal Energy Regulatory Commission

Notice of Request To Use Alternative Procedures in Preparing a License Application

July 11, 2001.

Take notice that the following request to use alternative procedures to prepare a license application has been filed with the Commission and is available for public inspection. This filing may also be viewed on the web at http://www.ferc.gov using the “RIMS” link, select “Docket#” and follow the instructions (call 202-208-2222 for assistance).

a. Type of Application: Request to use alternative procedures to prepare a new license application.

b. Project No.: 2586.

c. Date filed: May 23, 2001.

d. Applicant: Alabama Electric Cooperative, Inc. (AEC).

e. Name of Project: Conecuh River Hydroelectric Project.

f. Location: On the Conecuh River near the towns of Gantt and River Falls, in Covington County, Alabama.

g. Filed Pursuant to: Federal Power Act, 16 U.S.C. 791(a)-825(r).

h. Applicant Contact: Mike Noel, Environmental Engineer, Alabama Electric Cooperative, Inc., Post Office Box 550, Anadalusia, AL 36420, (334) 427-3248.

i. FERC Contact: Ron McKitrick, (770) 452-3778; e-mail ronald.mckitrick@ferc.fed.us.

j. Deadline for Comments: 30 days from the date of this notice.

All documents (original and eight copies) should be filed with: David P. Boergers, Secretary, Federal Energy Regulatory Commission, 888 First Street, NE., Washington, DC 20426. Copies of this filing are on file with the Commission and are available for public inspection. Comments, protests and interventions may be filed electronically via the Internet in lieu of paper. See, 18 CFR 385.2001(a)(1)(iii) and the instructions on the Commission's web site under the “e-Filing” link.

k. The Conecuh River Project consists of two developments: The existing Point “A” development consists of a 2,800-foot-long earthen dam, 700-acre reservoir, three generating units with an installed capacity of 5,200 kW, and a 0.39-mile-long transmission line. The existing Gantt Development consists of a 1,562-foot-long earthen dam, a 2,767-acre reservoir, and two generating units with an installed capacity of 3,050 Kw.

l. Alabama Electric Cooperative, Inc. (AEC) has demonstrated that it has made an effort to contact all federal and state resources agencies, non-governmental organizations (NGO), and others affected by the project. AEC has also demonstrated that a consensus exists that the use of alternative procedures is appropriate in this case. AEC has submitted a communications protocol that is supported by the stakeholders.

The purpose of this notice is to invite any additional comments on AEC's request to use the alternative procedures, pursuant to Section 4.34(i) of the Commission's regulations. Additional notices seeking comments on the specific project proposal, interventions and protests, and recommended terms and conditions will be issued at a later date. AEC will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

AEC has had preliminary discussion with federal and state resources agencies, NGOs, county and local governments, homeowners, and members of the public regarding the Conecuh River Project. AEC intends to file 6-month progress reports during the alternative procedures process that leads to the filing of a license application by April 30, 2003.

David P. Boergers,
Secretary.

[FR Doc. 01-17809 Filed 7-16-01; 8:45 am]

BILLING CODE 6717-01-P